Proclamation 8896 of November 1, 2012

National Adoption Month, 2012

By the President of the United States of America

A Proclamation

As a Nation that believes all children deserve the chance to reach their full potential, we have a fundamental responsibility to ensure each of them grows up knowing the love and protection of a permanent family. During National Adoption Month, we give voice to children who are still waiting for that opportunity, celebrate the bond that unites adoptive parents with their sons and daughters, and recommit to providing every child with the care and security that will nurture their development and well-being.

Later this month, many Americans will also mark National Adoption Day by completing a foster care adoption and embracing a new member of their family. Driven by reasons unique to their households but united by the spirit of compassion that moves all who choose to adopt, these parents will take up our country's most important task—the work of raising our sons and daughters. As we celebrate the contributions of adoptive parents across our Nation, let us also strive to eliminate discriminatory barriers that would separate foster children from a loving family. Adoptive families come in many forms, and it is essential that all qualified adults have the opportunity to care for a child in need.

My Administration remains committed to helping every child find a loving home. We have partnered with faith-based and community organizations across America to help connect children with adoptive parents, and we continue to work with State, local, and tribal governments to improve child outcomes; enhance safety, permanency, and well-being; and support adoptive families. I was proud to sign the Affordable Care Act and the International Adoption Simplification Act, which have made it easier for families to adopt, as well as the Child and Family Services Improvement and Innovation Act, which will help reduce the length of time young children are without families. We have built on those efforts as part of the National Adoption Campaign, which continues to bring adoption and foster care into our national conversation.

Thousands of children living in America hope for the comfort and safety of a loving family. This month, we pay tribute to the dedicated professionals who help make those children's dreams a reality, sharpen our resolve to find a permanent home for every child, and celebrate the stories of all whose lives have been touched by adoption.

NOW, THEREFORE, I, BARACK OBAMA, President of the United States of America, by virtue of the authority vested in me by the Constitution and the laws of the United States, do hereby proclaim November 2012 as National Adoption Month. I encourage all Americans to observe this month by answering the call to find a permanent and caring family for every child in need, and by supporting the families who care for them.

IN WITNESS WHEREOF, I have hereunto set my hand this first day of November, in the year of our Lord two thousand twelve, and of the Independence of the United States of America the two hundred and thirty-seventh.

[FR Doc. 2012-27190

Filed 11-5-12; 8:45 am]

Billing code 3295-F3